DEPARTMENT OF HOMELAND SECURITY

Federal Emergency Management Agency

Notice of Adjustment of Disaster Grant Amounts

AGENCY: Federal Emergency Management Agency, Emergency Preparedness and Response Directorate, Department of Homeland Security.

ACTION: Notice.

SUMMARY: FEMA gives notice of an increase of the maximum amount for Small Project Grants to State and local governments and private nonprofit facilities for disasters declared on or after October 1, 2004.

DATES: Effective October 1, 2004 and applies to major disasters declared on or after October 1, 2004.

FOR FURTHER INFORMATION CONTACT: James A. Walke, Recovery Division, Federal Emergency Management Agency, Washington, DC 20472, (202) 646-3834.

SUPPLEMENTARY INFORMATION: The Robert T. Stafford Disaster Relief and Emergency Assistance Act, 42 U.S.C. 5121-5206 (the Stafford Act) prescribes that FEMA must annually adjust the maximum grant amount made under section 422, Small Project Grants, Simplified Procedure, relating to the Public Assistance program, to reflect changes in the Consumer Price Index for All Urban Consumers published by the Department of Labor.

FEMA gives notice of an increase of the maximum amount of any Small Project Grant made to the State, local government, or to the owner or operator of an eligible private nonprofit facility, under section 422 of the Stafford Act, to $55,500 for all disasters declared on or after October 1, 2004.

FEMA bases the adjustment on an increase in the Consumer Price Index for All Urban Consumers of 2.7 percent for the 12-month period ended in August 2004. The Bureau of Labor Statistics of the U.S. Department of Labor released the information on September 16, 2004.

(Catalog of Federal Domestic Assistance No. 97.036, Public Assistance Grants)

Michael D. Brown,
Under Secretary, Emergency Preparedness and Response, Department of Homeland Security.

[FR Doc. 04-23319 Filed 10-18-04; 8:45 am]

BILLING CODE 9110-10-P